DEPARTMENT OF JUSTICE

Notice of Lodging of Consent Decree Under the Clean Air Act

Notice is hereby given that on June 30, 2011, a Consent Decree in United States v. Western Refining Company, L.P., Civil Action No. 3:11-cv-276, was lodged with the United States District Court for the Western District of Texas.

The Consent Decree, which pertains to Western's El Paso, Texas refinery, is one of many national settlements concluded as part of EPA's Clean Air Act Petroleum-Refinery Initiative. Consistent with the objectives of the national initiative, the settlement requires Western to perform injunctive relief to reduce emissions of nitrogen oxides, sulfur dioxide, volatile organic compounds, and benzene. Among other things, emission limits are set for NOX and SO2 emissions from the fluidized catalytic cracking unit (FCCU), emission limits are set for NOX from large heaters and boilers, the root causes of any flaring incidents must be investigated, the refinery's flares must comply with regulations that limit SO2 emissions, the refinery's benzene monitoring program is enhanced, and the refinery's leak-detection-and-repair (LDAR) program is upgraded. The Consent Decree also requires the payment of a $1.45 million civil penalty.

The Consent Decree resolves allegations by the Environmental Protection Agency, asserted in a complaint filed with the Consent Decree.

The Department of Justice will receive comments relating to the Consent Decree for a period of thirty (30) days from the date of this publication. Comments should be addressed to the Assistant Attorney General, Environment and Natural Resources Division, and either e-mailed to pubcomment-ees.enrd@usdoj.gov, or mailed to P.O. Box 7611, U.S. Department of Justice, Washington, DC 20044-7611, and should refer to United States v. Western Refining Company, L.P., D.J. Ref. No. 90-5-2-1-07629/1.

During the public comment period, the Consent Decree may be examined on the following Department of Justice Web site: http://www.usdoj.gov/enrd/Consent_Decrees.html. A copy of the Consent Decree may also be obtained by mail from the Consent Decree Library, P.O. Box 7611, U.S. Department of Justice, Washington, DC 20044-7611, or by faxing or e-mailing a request to Tonia Fleetwood (tonia.fleetwood@usdoj.gov), fax number (202) 514-0097, phone confirmation number (202) 514-1547. If requesting a copy from the Consent Decree Library, please enclose a check in the amount of $30.25 (25 cents per page reproduction cost) payable to the U.S. Treasury, or, if requesting by e-mail or fax, please forward a check in that amount to the Consent Decree Library at the address given above.

Maureen M. Katz,
Assistant Section Chief, Environmental Enforcement Section, Environment and Natural Resources Division.

[FR Doc. 2011-16986 Filed 7-6-11; 8:45 am]

BILLING CODE 4410-15-P